Proclamation 9113 of April 30, 2014

National Physical Fitness and Sports Month, 2014

By the President of the United States of America

A Proclamation

Sports keep children healthy, teach them to work as part of a team, and help them develop the discipline to achieve their goals. During National Physical Fitness and Sports Month, we encourage America's sons and daughters to get active and challenge everyone to join the movement for a happier, fitter Nation.

For 4 years, First Lady Michelle Obama's Let's Move! initiative has worked with community and faith leaders, educators, health care professionals, and businesses to give our children a healthy start and empower schools to build active environments. My Administration launched the Presidential Youth Fitness Program, replacing the old Physical Fitness Test to put a stronger emphasis on students' health. We also created the new Presidential Active Lifestyle Award, which encourages all Americans to commit to eating right and getting regular exercise. Because everyone should have the chance to get active, the President's Council on Fitness, Sports, and Nutrition is expanding I Can Do It, You Can Do It! —a program that creates more opportunities for Americans with disabilities to participate in fitness and sports. For more information or to learn how you can get involved, visit www.LetsMove.gov and www.Fitness.gov.

By leading more active lifestyles, we can invest in our futures and encourage our children to do the same. This month, let us champion fitness to our family, friends, and colleagues. Let us give young people the chance to find a sport or physical activity they love, boost their energy and confidence, and reach their fullest potential.

NOW, THEREFORE, I, BARACK OBAMA, President of the United States of America, by virtue of the authority vested in me by the Constitution and the laws of the United States, do hereby proclaim May 2014 as National Physical Fitness and Sports Month. I call upon the people of the United States to make daily physical activity, sports participation, and good nutrition a priority in their lives.

IN WITNESS WHEREOF, I have hereunto set my hand this thirtieth day of April, in the year of our Lord two thousand fourteen, and of the Independence of the United States of America the two hundred and thirty-eighth.

[FR Doc. 2014-10454

Filed 5-5-14; 8:45 am]

Billing code 3295-F4